FEDERAL COMMUNICATIONS COMMISSION

Notice of Public Information Collection(s) Being Reviewed by the Federal Communications Commission, Comments Requested

July 20, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before September 28, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control Number: 3060-0971.

Title: Numbering Resource Optimization, Second Report and Order, Order on Reconsideration in CC Docket Nos. 96-98 and CC Docket Nos. 99-200, and Second Further Notice of Proposed Rulemaking in CC Docket Nos. 99-200 (Second Report and Order).

Form No.: N/A.

Type of Review: Extension of a currently approved collection.

Respondents: Business or other for-profit and state, local or tribal government.

Number of Respondents: 2,050.

Estimated Time per Response: .25—3 hours.

Frequency of Response: On occasion reporting requirement and third party requirement.

Total Annual Burden: 14,000 hours.

Total Annual Cost: N/A.

Privacy Act Impact Assessment: N/A.

Needs and Uses: The Second Report and Order in CC Docket Nos. 99-200 and 96-98, released December 29, 2000 requires that carriers, which report forecast and utilization data semi-annually to the North American Numbering Plan Administrator (NANPA) or the Pooling Administrator, duplicate the data for state commissions upon request, and that to request a “for cause” audit of a carrier, the NANPA, the Pooling Administrator, or a state commission must draft a request to the auditor stating the reason for the request, i.e., as misleading or inaccurate data, and attach supporting documentation. The FCC, state commissions, the NANPA, and the Pooling Administrator use this information to verify the validity and accuracy of the data to assist state commissions in carrying out their numbering responsibilities, i.e., as area code relief.

Federal Communications Commission.
William F. Caton,
Deputy Secretary.

[FR Doc. 04-17426 Filed 7-29-04; 8:45 am]

BILLING CODE 6712-01-P